DEPARTMENT OF EDUCATION

Applications for New Awards; Child Care Access Means Parents in School Program

AGENCY: Office of Postsecondary Education, Department of Education.

ACTION: Notice.

SUMMARY: The Department of Education (Department) is issuing a notice inviting applications for new awards for fiscal year (FY) 2022 for the Child Care Access Means Parents in School (CCAMPIS) Program, Assistance Listing Number 84.335A. This notice relates to the approved information collection under OMB control number 1840-0737.

DATES:

Applications Available: May 20, 2022.

Deadline for Transmittal of Applications: July 11, 2022.

Deadline for Intergovernmental Review: September 7, 2022.

ADDRESSES: For the addresses for obtaining and submitting an application, please refer to our Common Instructions for Applicants to Department of Education Discretionary Grant Programs, published in the Federal Register December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phaseout of DUNS numbers is available at https://www2.ed.gov/about/offices/list/ofo/docs/unique-entity-identifier-transition-fact-sheet.pdf.

FOR FURTHER INFORMATION CONTACT: Harold L. Wells, II, U.S. Department of Education, 400 Maryland Avenue SW, Room 2C240, Washington, DC 20202-4260. Telephone: (202) 453-6131. Email: Harold.Wells@ed.gov.

If you are deaf, hard of hearing, or have a speech disability and wish to access telecommunications relay services, please dial 7-1-1.

SUPPLEMENTARY INFORMATION:

Full Text of Announcement

I. Funding Opportunity Description

Purpose of Program: The CCAMPIS Program supports the participation of low-income parents in postsecondary education by providing campus-based child care services.

Priorities: This notice contains two absolute priorities, one competitive preference priority, and three invitational priorities. In accordance with 34 CFR 75.105(b)(2)(iv), the absolute priorities are from section 419N(d) of the Higher Education Act of 1965, as amended (HEA), 20 U.S.C. 1070e(d). The competitive preference priority is from the Secretary's Supplemental Priorities and Definitions for Discretionary Grants Programs, published in the Federal Register on December 10, 2021 (86 FR 70612) (Supplemental Priorities).

Note: Applicants must include in the one-page abstract submitted with the application a statement indicating whether the competitive preference priority is addressed. If the applicant has addressed the competitive preference priority, this information must also be listed on the CCAMPIS Program Profile form.

Absolute Priorities: For FY 2022, and any subsequent year in which we make awards from the list of unfunded applications from this competition, these priorities are absolute priorities. Under 34 CFR 75.105(c)(3), we consider only applications that meet both priorities.

These priorities are:

Absolute Priority 1: Projects that are designed to leverage significant local or institutional resources, including in-kind contributions, to support the activities assisted under section 419N of the HEA.

Absolute Priority 2: Projects that are designed to utilize a sliding fee scale for child care services provided under section 419N of the HEA in order to support a high number of low-income parents pursuing postsecondary education at the institution.

Competitive Preference Priority: For FY 2022 and any subsequent year in which we make awards from the list of unfunded applicants from this competition, this priority is a competitive preference priority. Under 34 CFR 75.105(c)(2)(i), we award up to an additional 5 points to an application, depending on how well the application meets this priority.

The priority is:

Strengthening Cross-Agency Coordination and Community Engagement to Advance Systemic Change (up to 5 points).

Projects that are designed to take a systemic evidence-based approach to improving outcomes for underserved students in coordinating efforts with Federal, State, or local agencies, or community-based organizations, that support students, to address child care.

Background: The Department encourages applicants to coordinate with agencies and organizations to leverage funding available through Federal, State, or local government, or community-based organizations, to support student parents in meeting early learning needs. For example, the American Rescue Plan provided an additional $15 billion for the Child Care and Development Block Grant Program (CCDBG) and an additional $24 billion for Child Care Stabilization Grants administered by the United States Department of Health and Human Services (HHS). CCDBG provides child care assistance for low-income families, and the Child Care Stabilization Grants can be used to provide relief from copayments and tuition payments to families enrolled in the provider's program, prioritizing families struggling to make such payments. In addition, the Child and Adult Care Food Program administered by the United States Department of Agriculture (USDA) provides meal reimbursements for eligible child care centers. Applicants could also propose to establish partnerships with other publicly-funded child care centers to help student parents on waiting lists access other child care centers with available space.

Invitational Priorities: For FY 2022, and any subsequent year in which we make awards from the list of unfunded applications from this competition, these priorities are invitational priorities. Under 34 CFR 75.105(c)(1) we do not give an application that meets these invitational priorities a competitive or absolute preference over other applications.

The priorities are:

Invitational Priority 1: Supporting Students Who Are Single Parents.

Projects that propose to serve children of student-parents who are single parents. An applicant should describe in its application how it will use institutional funds, in addition to child care assistance provided by CCAMPIS funds, to provide resources that will enhance the educational, personal, and financial growth of students who are single parents.

Background: According to the Institute for Women's Policy Research (IWPR), there are nearly 2.1 million single mothers in college today, many of whom are women of color.¹ These mothers face nearly insurmountable odds against finishing their degrees, even as many of them are pursuing higher education in order to lift their families out of poverty. Only 8 percent of single mothers who start college earn an associate or bachelor's degree within 6 years, compared with about half of women who are not mothers.

¹ Institute for Women's Policy Research (IWPR) analysis of data from the U.S. Department of Education (September 2017), National Center for Education Statistics. National Postsecondary Student Aid Study and the Integrated Postsecondary Aid Survey (IPEDS). Retrieved from https://iwpr.org/iwpr-issues/student-parent-success-initiative/single-mothers-in-college-growing-enrollment-financial-challenges-and-the-benefits-of-attainment/.

The IWPR research also finds that supports such as free child care, financial assistance, and social skills training would allow more student parents to graduate. According to the IWPR, offering free child care to a single mother pursuing a bachelor's degree improves success rates for community college students. Free child care may allow many student parents to finish school more quickly, meaning they would require fewer years of support and likely spend more years earning higher wages. One recent study shows that students who utilize a campus child care center had more than triple the rate of on-time completion as parents who did not use a center.²

² Stewart, P. “Campus Child Care Critical in Raising Single Mothers' Graduation Rates.” Diverse Issues in Higher Education (June 6, 2018). https://diverseeducation.com/article/117704/.

Invitational Priority 2: Increasing campus-based child care for infants and toddlers.

Projects that increase the number of campus-based child care openings for infants and toddlers.

Background: Rising child care costs and reduced capacity of the Early Childhood Education sector to provide child care due, in part, to workforce shortages, are causing families to choose between school and work. In a recent interview conducted by National Public Radio (NPR), parents reported that their rent and child care costs are equal.³

³ National Public Radio. Experiences of U.S. Households with Children During the DELTA Variant Outbreak. (2021). households-children-virus-poll.pdf (npr.org).

Safe child care for young children is inherently expensive because, among other reasons, one caregiver should not care for three or four infants at a time.⁴ Moreover, the U.S. spends less public money on early childhood education and care than most other wealthy nations, according to the Organization for Economic Co-operation and Development.⁵

⁴ See https://childcare.gov/consumer-education/ratios-and-group-sizes.

⁵ PF3.1: “Public spending on child care and early education.” OECD Family Database (2020). https://www.oecd.org/els/soc/PF3_1_Public_spending_on_childcare_and_early_education.pdf#:~:text=On%20a%20per%20child%20basis%2C%20total%20public%20spending,than%20USD%20PPP%202000%20per%20child%20aged%200-5.

During the coronavirus pandemic, many existing child care centers shut down completely or reduced their enrollment numbers for safety reasons. As the economy has opened back up, child care centers, like many businesses, are struggling to find workers, particularly because child care centers cannot typically afford the same employee incentives as bigger businesses, such as hiring bonuses. According to a new poll ⁶ conducted by National Public Radio, the Robert Wood Johnson Foundation, and the Harvard T.H. Chan School of Public Health, 34 percent of families with young children faced serious problems finding child care in recent months when adults were required to work or go to school. In a survey of 7,500 early childhood educators conducted by the National Association for the Education of Young Children (NAEYC), four of five respondents reported having staff shortages, with 15% of respondents reporting a “major shortage.” The survey further revealed that, on average, the Centers surveyed were operating at 71% of their licensed capacity. According to the survey results, the primary barrier to recruitment and retention of early childhood educators is the low wages offered in the field.⁷

⁶ National Public Radio. “Experiences of U.S. Households with Children During the DELTA Variant Outbreak.” (Oct. 2021). https://media.npr.org/assets/img/2021/10/19/households-children-virus-poll.pdf.

⁷ https://www.naeyc.org/about-us/news/press-releases/survey-childcare-centers-understaffed#:~:text=Among%20the%20survey's%20key%20findings,15%20fewer%20workers%20than%20needed.

While some parents may rather work in the office and attend classes in person, they may feel compelled to work from home and take online classes so they can also provide care to their children. The journey to degree completion can become longer as parents reduce their course load in order to be able to properly care for their children. This in turn impedes their potential to increase their income because of the extended time to degree completion. Through this priority, the Department encourages applicants to propose strategies to increase the number of child care openings on campus, particularly for infants and toddlers, including through strategies to address workforce shortages.

Invitational Priority 3: Providing Wrap-Around Services for Low-Income Parents in Postsecondary Education.

Projects that propose to develop high-impact community engagement strategies and partner with community organizations in order to leverage institutional and community resources to provide wrap-around services that address the comprehensive needs of low-income parents in postsecondary education, such as public benefits and additional financial aid to cover textbook costs, transportation costs, mental health services, faculty mentoring, tutoring, peer support groups, and emergency grants.

Background: Poverty reduces a student's opportunity to enter, persist, and complete higher education. Students from low-income backgrounds are more likely to delay enrollment, enroll in college part-time, or drop out.⁸ The Coronavirus crisis has caused many students to delay enrollment in college,⁹ and colleges and universities struggle to address the financial needs of enrolled students. Financial aid supports such as Pell Grants provide important resources for under-resourced students to access college, but additional supports are needed to ensure students persist and complete their education. Studies in New York and Ohio, for example, show that comprehensive supports such as leadership opportunities, career development, and removal of key financial barriers designed to help community college students stay enrolled and graduate have doubled 3-year graduation rates for those students.¹⁰

⁸ “Low-income students are dropping out of college this fall in alarming numbers,” The Washington Post (Sept. 16, 2020), https://www.washingtonpost.com/business/2020/09/16/college-enrollment-down/.

⁹ https://www.cnbc.com/2021/04/16/college-enrollment-sank-due-to-the-covid-pandemic.html.

¹⁰ Manpower Demonstration Research Corporation, “CUNY ASAP Doubles Graduation Rates in New York and Ohio.” (Feb. 2021). Retrieved February 23, 2021. https://www.mdrc.org/publication/cuny-asap-doubles-graduation-rates-new-york-city-and-ohio.

Application Requirements: For FY 2022, and any subsequent year in which we make awards from the list of unfunded applications from this competition, applicants must meet the following application requirements from section 419N(c) of the HEA:

(a) An institution of higher education desiring a grant under this competition must submit an application that—

(1) Demonstrates that the institution is an eligible institution, as defined in section 419N(b)(4) of the HEA;

(2) Specifies the amount of funds requested;

(3) Demonstrates the need of low-income students (as defined in this notice) at the institution for campus-based child care services by including in the application—

(i) Information regarding student demographics;

(ii) An assessment of child care capacity on or near campus;

(iii) Information regarding the existence of waiting lists for existing child care;

(iv) Information regarding additional needs created by concentrations of poverty or by geographic isolation; and

(v) Other relevant data;

(4) Contains a description of the activities to be assisted, including whether the grant funds will support an existing child care program or a new child care program;

(5) Identifies the resources, including technical expertise and financial support, the institution will draw upon to support the child care program and the participation of low-income students in the program, such as accessing social services funding, using student activity fees to help pay the costs of child care, using resources obtained by meeting the needs of parents who are not low-income students, and accessing foundation, corporate, or other institutional support, and demonstrate that the use of the resources will not result in increases in student tuition;

(6) Contains an assurance that the institution will meet the child care needs of low-income students through the provision of services or through a contract for the provision of services;

(7) Describes the extent to which the child care program will coordinate with the institution's early childhood education curriculum, to the extent the curriculum is available, to meet the needs of the students in the early childhood education program at the institution and the needs of the parents and children participating in the child care program assisted under the applicant's project;

(8) In the case of an institution seeking assistance for a new child care program—

(i) Provides a timeline, covering the period from receipt of the grant through the provision of the child care services, delineating the specific steps the institution will take to achieve the goal of providing low-income students with child care services;

(ii) Specifies any measures the institution will take to assist low-income students with child care during the period before the institution provides child care services; and

(iii) Includes a plan for identifying resources needed for the child care services, including space in which to provide child care services, and technical assistance, if necessary;

(9) Contains an assurance that any child care facility assisted under this section will meet the applicable State or local government licensing, certification, approval, or registration requirements; and

(10) Contains a plan for any child care facility assisted under this program to become accredited within 3 years of the date the institution first receives assistance under this program.

Definitions: The definition of “early childhood education program” and “low-income student” are from sections 103 (20 U.S.C. 1003) and 419N of the HEA, respectively.

Early childhood education program means—

(1) A Head Start program or an Early Head Start program carried out under the Head Start Act (42 U.S.C. 9831 et seq.), including a migrant or seasonal Head Start program, an Indian Head Start program, or a Head Start program or an Early Head Start program that also receives State funding;

(2) A State licensed or regulated child care program; or

(3) A program that—

(i) Serves children from birth through age 6 that addresses the children's cognitive (including language, early literacy, and early mathematics), social, emotional, and physical development; and

(ii) Is—

(I) A State prekindergarten program;

(II) A program authorized under section 619 (20 U.S.C. 1419) or part C of the Individuals with Disabilities Education Act (20 U.S.C. 1431 et seq.); or

(III) A program operated by a local educational agency.

Low-income student means a student—

(1) Who is eligible to receive a Federal Pell Grant for the award year for which the determination is made; or

(2) Who would otherwise be eligible to receive a Federal Pell Grant for the award year for which the determination is made, except that the student fails to meet the requirements of—

(i) 20 U.S.C. 1070a(c)(1) because the student is enrolled in a graduate or first professional course of study; or

(ii) 20 U.S.C. 1091(a)(5) because the student is in the United States for a temporary purpose.

Program Authority: 20 U.S.C. 1070e and Consolidated Appropriations Act, 2022 (Pub. L. 117-103).

Note: Projects will be awarded and must be operated in a manner consistent with the nondiscrimination requirements contained Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: Because there are no program-specific regulations for the CCAMPIS Program, applicants are encouraged to carefully read the authorizing statute: Title IV, part A, subpart 7, section 419N of the HEA (20 U.S.C. 1070e).

II. Award Information

Type of Award: Discretionary grants.

Estimated Available Funds: $38,500,000.

Contingent upon the availability of funds and the quality of applications, we may make additional awards in subsequent years from the list of unfunded applications from this competition.

Estimated Range of Awards: $90,000 to $1,000,000.

Estimated Average Size of Awards: $465,000.

Minimum Award: The minimum annual amount an applicant may receive under this program is $90,000.

Maximum Award: The maximum annual amount an applicant may receive under this program is 3 percent of the total amount of all Federal Pell Grant funds awarded to students enrolled at the institution for FY 2021. In the event an applicant's maximum award amount is lower than the minimum award of $90,000, the grant will be awarded $90,000 for a single budget period of 12 months. The Department encourages all applicants to consult the Department of HHS' Provider Cost of Quality Calculator while developing award requests. This tool can be found at https://childcareta.acf.hhs.gov/pcqc.

Estimated Number of Awards: 83.

Note: The Department is not bound by any estimates in this notice.

Project Period: Up to 48 months.

III. Eligibility Information

1. Eligible Applicants: Institutions of higher education that awarded a total of $250,000 or more in Federal Pell Grant funds during FY 2021 to students enrolled at the institution.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grants Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This program is subject to Executive Order 12372 and the regulations in 34 CFR part 79. Information about Intergovernmental Review of Federal Programs under Executive Order 12372 is in the application package for this program.

3. Funding Restrictions: Funding restrictions are outlined in section 419N(b)(2)(B) of the HEA and the Consolidated Appropriations Act, 2022 (Pub. L. 117-103). We reference regulations outlining funding restrictions in the Applicable Regulations section of this notice.

4. Recommended Page Limit: The application narrative is where you, the applicant, address the selection criteria that reviewers use to evaluate your application. We recommend that you (1) limit the application narrative, which includes the budget narrative, to no more than 50 pages and (2) use the following standards:

• A “page” is 8.5″ x 11″, on one side only, with 1″ margins.

• Double space all text in the application narrative, and single-space titles, headings, footnotes, quotations, references, and captions, as well as all text in charts, tables, figures, and graphs.

• Use a 12-point font.

• Use an easily readable font such as Times New Roman, Courier, Courier New, or Arial.

The recommended 50-page limit does not apply to the Application for Federal Assistance cover sheet (SF 424); the Budget Information Summary form (ED Form 524); the CCAMPIS Program Profile form and the one-page Project Abstract form; or the assurances and certifications. The recommended page limit also does not apply to a table of contents, which you should include in the application narrative. You must include your complete response to the selection criteria in the application narrative.

We recommend that any application addressing the competitive preference and invitational priorities include no more than three additional pages for each priority.

V. Application Review Information

1. Selection Criteria: The selection criteria for this competition are from section 419N of the HEA and 34 CFR 75.210 and are listed below.

We will award up to 100 points to an application under the selection criteria. The maximum number of points available for each criterion is indicated in parentheses.

(a) Need for the project. (up to 24 points)

The Secretary determines the need for the proposed project. In determining the need for the proposed project, the Secretary considers the extent to which the applicant demonstrates in its application the need for campus-based child care services for low-income students by including the following (see section 419N(c)(3) of the HEA):

(i) Information regarding student demographics.

(ii) An assessment of child care capacity on or near campus, including information regarding the existence of waiting lists for existing child care.

(iii) Information regarding additional needs created by concentrations of poverty or by geographic isolation.

(iv) Other relevant data.

(b) Quality of project design and project services. (up to 36 points)

The Secretary considers the quality of the design of the proposed project and the quality of services to be provided. In determining the quality of the design and the quality of services to be provided by the proposed project, the Secretary considers the following:

(i) The extent to which the applicant describes in its application the activities to be assisted, including whether the grant funds will support an existing child care program or a new child care program (see section 419N(c)(4) of the HEA).

(ii) The extent to which the services to be provided by the proposed project are focused on those with greatest needs (see 34 CFR 75.210(d)(3)(xi)).

Note: When describing how the project is focused on those with greatest needs, applicants are encouraged to include in their assessment the extent to which services are available during all hours that classes are in session, including evenings and weekends, to part-time students, and to students who need only emergency drop-in child care in the event that regularly scheduled child care is unexpectedly unavailable.

(iii) The likely impact of the services to be provided by the proposed project on the intended recipients of those services (see 34 CFR 75.210(d)(3)(iv)).

(iv) The extent to which the application includes an assurance that the institution will meet the child care needs of low-income students through the provision of services, or through a contract for the provision of services (see section 419N(c)(6) of the HEA).

(v) The extent to which the child care program will coordinate with the institution's early childhood education curriculum, to the extent the curriculum is available, to meet the needs of the students in the early childhood education program at the institution, and the needs of the parents and children participating in the child care program assisted under this section (see section 419N(c)(7) of the HEA).

(vi) The extent to which the proposed project encourages parental involvement (see 34 CFR 75.210(c)(2)(xix)).

(vii) The extent to which the proposed project represents an exceptional approach to the priority or priorities established for the competition (see 34 CFR 75.210(c)(2)(xv)).

(viii) If the applicant is seeking assistance for a new child care program (see section 419N(c)(8) of the HEA)—

(1) The extent to which the applicant's timeline, covering the period from receipt of the grant through the provision of the child care services, delineates the specific steps the institution will take to achieve the goal of providing low-income students with child care services;

(2) The extent to which the applicant specifies any measures the institution will take to assist low-income students with child care during the period before the institution provides child care services; and

(3) The extent to which the application includes a plan for identifying resources needed for the child care services, including space in which to provide child care services and technical assistance if necessary.

Note: For applications that seek assistance to support existing programs, the maximum available points for this selection criterion will be divided equally among factors (i)-(vi), and, for applications that seek assistance to support new programs, among factors (i)-(vii).

(c) Quality of management plan and project personnel. (up to 21 points)

The Secretary considers the quality of the management plan and project personnel for the proposed project. In determining the quality of the management plan and project personnel for the proposed project, the Secretary considers the following:

(i) The extent to which the application identifies the resources, including technical expertise and financial support, the institution will draw upon to support the child care program and the participation of low-income students in the program, such as accessing social services funding, using student activity fees to help pay the costs of child care, using resources obtained by meeting the needs of parents who are not low-income students, and accessing foundation, corporate or other institutional support, and demonstrates that the use of the resources will not result in increases in student tuition (see section 419N(c)(5) of the HEA).

(ii) The qualifications, including relevant training and experience, of key project personnel (see 34 CFR 75.210(e)(3)(ii)).

(iii) The adequacy of the management plan to achieve the objectives of the proposed project on time and within budget, including clearly defined responsibilities, timelines, and milestones for accomplishing project tasks (see 34 CFR 75.210(g)(2)(i)).

(d) Quality of project evaluation. (up to 12 points)

The Secretary considers the quality of the evaluation to be conducted of the project. In determining the quality of the project evaluation, the Secretary considers the following:

(i) The extent to which the methods of evaluation are thorough, feasible, and appropriate to the goals, objectives, and outcomes of the proposed project (see 34 CFR 75.210(h)(2)(i)).

(ii) The extent to which the methods of evaluation include the use of objective performance measures that are clearly related to the intended outcomes of the project and will produce quantitative and qualitative data to the extent possible (see 34 CFR 75.210(h)(2)(iv)).

(iii) The extent to which the methods of evaluation will provide performance feedback and permit periodic assessment of progress toward achieving intended outcomes (see 34 CFR 75.210(h)(2)(vi)).

(e) Adequacy of resources. (up to 7 points)

The Secretary considers the adequacy of resources for the proposed project. In determining the adequacy of resources for the proposed project, the Secretary considers the following:

(i) The extent to which the budget is adequate to support the proposed project (see 34 CFR 75.210(f)(2)(iii)).

(ii) The extent to which the costs are reasonable in relation to the number of persons to be served and to the anticipated results and benefits (see 34 CFR 75.210(f)(2)(v)).

2. Review and Selection Process: We remind potential applicants that in reviewing applications in any discretionary grant competition the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award the Secretary requires various assurances, including those applicable to Federal civil rights laws that prohibit discrimination in programs or activities receiving Federal financial assistance from the Department (34 CFR 100.4, 104.5, 106.4, 108.8, and 110.23).

For this competition, a panel of non-Federal reviewers will review each application in accordance with the selection criteria. The individual scores of the reviewers will be added and the sum divided by the number of reviewers to determine the peer review score received in the review process.

If there are insufficient funds for all applications with the same total scores, the Secretary will choose from among the tied applications the institution with the highest percentage of students reported as Pell Grant recipients, in accordance with the following procedure. The Secretary will identify and recommend an award for the applicant that has the highest ratio of Pell Grant recipients to total undergraduate enrollment according to the most recent collection from the Integrated Postsecondary Education Data System (IPEDS). In applying the tiebreaker criteria, the Department will refer to fields within IPEDS that address all undergraduate enrollment (for both the numerator and the denominator of this rate).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures for the CCAMPIS Program. The success of the CCAMPIS Program will be measured by the postsecondary persistence and degree completion rates of the CCAMPIS Program participants. All CCAMPIS Program grantees will be required to submit an annual performance report documenting the persistence and degree attainment of their participants. Although students may choose to use child care services at different points in their college enrollment, the goal is to measure the outcomes of student-parents based on their completion of their program within 150 percent or 200 percent of the published program length. The cohort model of evaluation will track a student-parent's child care utilization throughout enrollment at the institution and will provide results based on the long-term academic success of the student-parent. The Department will aggregate the data provided in the annual grantee performance reports to determine the accomplishment level. This will not increase grantee reporting burden as CCAMPIS grantees already are gathering and maintaining the necessary data.

6. Continuation Awards: In making a continuation grant under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2022-10847 Filed 5-19-22; 8:45 am]

BILLING CODE 4000-01-P